DEPARTMENT OF THE INTERIOR

National Park Service

Notice of Availability of Draft Director's Order Concerning National Park Service Policies and Procedures Governing its Public Risk Management Program

AGENCY: National Park Service, Interior.

ACTION: Notice of availability.

SUMMARY: The National Park Service (NPS) is proposing to adopt a Director's Order setting forth the policies and procedures under which NPS facilities will develop and implement Public Risk Management Program. The Director's Order will help park staff do what is possible consistent with the NPS Organic Act and other applicable laws to prevent visitor injuries. It is also important that staff understand and communicate, when possible, that visitors are responsible for their own safety when they come to enjoy parks.

DATES: Written comments will be accepted until September 24, 2009.

ADDRESSES: Draft Director's Order #50C is available on the Internet at http://www.nps.gov/policy/DO-50Cdraft.htm. Requests for copies of, and written comments on, the Director's Order should be sent to Sara Newman, Public Risk Management Program Director, Risk Management Division, 1201 Eye Street, NW., Washington, DC 20005, or to her Internet address: sara_newman@nps.gov.

FOR FURTHER INFORMATION CONTACT: Sara Newman at (202) 513-7225.

SUPPLEMENTARY INFORMATION: When the NPS adopts documents containing new policy or procedural requirements that may affect parties outside the NPS, the documents are first made available for public review and comment before being adopted. The draft Director's Order covers topics such as the elements, principles, and responsibilities of staff for carrying out a public risk management program.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: July 21, 2009.
Karen Taylor-Goodrich,
Associate Director, Visitor and Resource Protection.

[FR Doc. E9-20433 Filed 8-24-09; 8:45 am]

BILLING CODE 4312-52-P